DEPARTMENT OF TRANSPORTATION

National Highway Traffic Safety Administration

49 CFR Parts 571 and 585

[Docket No. NHTSA-2024-0089]

RIN 2127-AL20

Federal Motor Vehicle Safety Standards; Child Restraint Systems, Child Restraint Anchorage Systems, Incorporation by Reference; Correction

AGENCY: National Highway Traffic Safety Administration (NHTSA), Department of Transportation (DOT).

ACTION: Final rule; correction.

SUMMARY: This document corrects a January 7, 2025 final rule that amended Federal Motor Vehicle Safety Standard (FMVSS) No. 225; “Child restraint anchorage systems,” and FMVSS No. 213b; “Child restraint systems,” to improve ease-of-use of the lower and tether anchorages, improve correct use of child restraint systems in vehicles, and maintain or improve the correct use and effectiveness of child restraint systems (CRSs) in motor vehicles. The final rule fulfilled a mandate of the Moving Ahead for Progress in the 21st Century Act (MAP-21) requiring that NHTSA improve the ease-of-use for lower anchorages and tethers in all rear seat positions.

DATES: Effective March 20, 2025.

ADDRESSES: Correspondence related to this rule should refer to the docket number set forth above (NHTSA-2024-0089) and be submitted to the Administrator, National Highway Traffic Safety Administration, 1200 New Jersey Avenue, SE, Washington, DC 20590.

FOR FURTHER INFORMATION CONTACT: For technical issues: Ms. Cristina Echemendia, Office of Crashworthiness Standards, Telephone (202) 366-6345), Facsimile: (202) 493-2990. For legal issues: Ms. Natasha Reed, Office of the Chief Counsel, Telephone: (202) 366-2992, Facsimile: (202) 366-3820. The mailing address for these officials is: National Highway Traffic Safety Administration, 1200 New Jersey Avenue SE, Washington, DC 20590.

SUPPLEMENTARY INFORMATION: In the Federal Register of January 7, 2025, (90 FR 1288), NHTSA published a final rule that amended FMVSS No. 225 and 213b. The preamble indicated that the final rule's amendments to FMVSS No. 213b would include a 3-year lead time following the publication of the final rule, as proposed by the Notice of Proposed Rulemaking (NPRM), with no phase-in period, but the compliance date for FMVSS No. 213b was inadvertently omitted from the compliance date section of the preamble and the applicable regulatory text of § 571.213b in the final rule. NHTSA is therefore correcting the preamble's “Compliance Date” section and the regulatory text of § 571.213b to include the required compliance dates for this final rule's amendments to § 571.213b. Specifically, this document corrects § 571.213b S5.5.2(j), S5.6.1.13, S5.6.1.14, S5.9(a), S5.9(b), and S5.9(c) to ensure that, as stated in the preamble, current requirements are effective for three years following the publication of the final rule and includes language to ensure that optional early compliance is permissible, but not required.

In FR Doc. 2024-31142, appearing on page 1288 in the Federal Register of Tuesday, January 7, 2025, the following corrections are made:

Preamble

1. On page 1288, in the first column, in the DATES section, the paragraph “Compliance Date: This final rule adopts a 3-year phase-in period to comply with the updated requirements in FMVSS No. 225. The phase-in begins on September 1, 2028, and requires that 20 percent of a manufacturer's applicable vehicles produced from September 1, 2028, to August 31, 2029, comply with the updated FMVSS No. 225, followed by 50 percent from September 1, 2029, to August 31, 2030, and 100 percent on and after September 1, 2030. Early compliance is permitted.” is corrected to read: “Compliance Date: This final rule adopts a 3-year phase-in period to comply with the updated requirements in FMVSS No. 225. The phase-in begins on September 1, 2028, and requires that 20 percent of a manufacturer's applicable vehicles produced from September 1, 2028, to August 31, 2029, comply with the updated FMVSS No. 225, followed by 50 percent from September 1, 2029, to August 31, 2030, and 100 percent on and after September 1, 2030. The compliance date for this final rule's amendments to FMVSS No. 213b is January 8, 2028. Early compliance is permitted.”

Regulatory Text

§ 571.213b [Corrected]

2. On page 1341, in the first column, in § 571.213b, in paragraph S5.5.2(j), the sentence “In the case of each child restraint system equipped with a tether strap the statement: Secure the tether strap provided with this child restraint.” is corrected to read “In the case of each child restraint system equipped with a tether strap system the statement: Secure the tether strap provided with this child restraint. For child restraints manufactured before January 8, 2028, the statement may state: Secure the top anchorage strap provided with this child restraint.”

3. On page 1341, in the second column, in § 571.213b, in paragraph S5.6.1.13, the sentence “In the case of child restraint systems marked as specified in S5.9(a) and (b) of this standard, explain that the markings identify the lower anchor connectors and the tether anchor connector, respectively, and that the consumer should look for corresponding marks on the vehicle child restraint anchorage system to attach the appropriate connectors of the child restraint system.” is corrected to read “For child restraints manufactured on or after January 8, 2028, in the case of child restraint systems marked as specified in S5.9(a) and (b) of this standard, explain that the markings identify the lower anchor connectors and the tether anchor connector, respectively, and that the consumer should look for corresponding marks on the vehicle child restraint anchorage system to attach the appropriate connectors of the child restraint system.”

4. On page 1341, in the second column, in § 571.213b, in paragraph S5.6.1.14, the sentence “Use the following terms when referring to the different components of the child restraint anchorage system or for components of the child restraint system that are used to connect the child restraint system to the vehicle: “lower anchor” means the lower anchorage of the child restraint anchorage system in the vehicle, “tether anchor” means the top tether anchorage of the child restraint anchorage system in the vehicle, “lower anchor attachment” means the child restraint system or the detachable base's (in the case of a rear-facing child restraint with a detachable base) lower anchorage connector and the lower anchorage strap (for flexible lower anchorage attachments), “rigid lower anchor attachment” means the child restraint system or the detachable base's (in the case of a rear-facing child restraint with a detachable base) lower anchorage connector that is rigidly attached to the CRS and does not have a lower anchorage strap, and “tether” means the child restraints system's tether hook and tether strap.” is corrected to read “For child restraints manufactured on or after January 8, 2028, use the following terms when referring to the different components of the child restraint anchorage system or for components of the child restraint system that are used to connect the child restraint system to the vehicle: “lower anchor” means the lower anchorage of the child restraint anchorage system in the vehicle, “tether anchor” means the top tether anchorage of the child restraint anchorage system in the vehicle, “lower anchor attachment” means the child restraint system or the detachable base's (in the case of a rear-facing child restraint with a detachable base) lower anchorage connector and the lower anchorage strap (for flexible lower anchorage attachments), “rigid lower anchor attachment” means the child restraint system or the detachable base's (in the case of a rear-facing child restraint with a detachable base) lower anchorage connector that is rigidly attached to the CRS and does not have a lower anchorage strap, and “tether” means the child restraints system's tether hook and tether strap.”

5. On page 1341, in the third column, in § 571.213b, in paragraph S5.9(a), the last sentence “All components provided to attach the add-on child restraint or the detachable base (in the case of a rear-facing child restraint with a detachable base) to the lower anchorages of the child restraint anchorage system shall be permanently marked with the pictogram in figure 15 to this section.” is corrected to read “For child restraints manufactured on or after January 8, 2028, all components provided to attach the add-on child restraint or the detachable base (in the case of a rear-facing child restraint with a detachable base) to the lower anchorages of the child restraint anchorage system shall be permanently marked with the pictogram in figure 15 to this section.”

6. On page 1341, in the third column, in § 571.213b, in paragraph S5.9(b), the second sentence “The tether hook or the tether strap shall be permanently marked with either pictogram shown in figure 16 to this section.” is corrected to read “For child restraints manufactured on or after January 8, 2028, the tether hook or the tether strap shall be permanently marked with either pictogram shown in figure 16 to this section.”

7. On page 1341, in the third column, in § 571.213, in paragraph S5.9(c), the last sentence “The length of the tether hardware assembly, which consists of a tether hook and a mechanism designed to tighten and loosen the tether strap, shall not exceed 165 mm.” is corrected to read “For child restraints manufactured on or after January 8, 2025, the length of the tether hardware assembly, which consists of a tether hook and a mechanism designed to tighten and loosen the tether strap, shall not exceed 165 mm.”

Issued in Washington, DC, under authority delegated in 49 CFR 1.95 and 501.8.
Peter Simshauser,
Chief Counsel.

[FR Doc. 2025-03348 Filed 2-28-25; 8:45 am]

BILLING CODE P